DEPARTMENT OF THE INTERIOR

Bureau of Land Management

[LLNVS00560.L58530000.ES0000 241A; N-88117; 11-08807; MO# 4500017954; TAS: 14X5232]

Notice of Realty Action: Recreation and Public Purposes Act Classification for Lease and/or Subsequent Conveyance of Public Lands in Clark County, Nevada

AGENCY: Bureau of Land Management, Interior.

ACTION: Notice of Realty Action.

SUMMARY: The Bureau of Land Management (BLM) has examined and found suitable for classification for lease and/or subsequent conveyance under the provisions of the Recreation and Public Purposes (R&PP) Act, as amended, approximately 40 acres of public land in the City of Las Vegas, Clark County, Nevada. The Clark County School District proposes to use the land for a bus transportation facility.

DATES: Interested parties may submit written comments regarding the proposed classification of the land, or lease and/or subsequent conveyance of the land, until February 10, 2011.

ADDRESSES: Send written comments to the BLM Field Manager, Las Vegas Field Office, 4701 N. Torrey Pines Drive, Las Vegas, Nevada 89130, or e-mail to Dorothy_Dickey@blm.gov.

FOR FURTHER INFORMATION CONTACT: Dorothy Jean Dickey, (702) 515-5119, or Dorothy_Dickey@blm.gov.

SUPPLEMENTARY INFORMATION: The parcel of land is legally described as:

Mount Diablo Meridian

T. 19 S., R. 59 E.,

Sec. 36, SE¼;NW¼.

The area described contains 40 acres, more or less, in Clark County.

In accordance with the R&PP Act, the Clark County School District has filed an application to develop the above described land for a northwest bus transportation facility. The bus transportation facility will include an administration building and a maintenance yard for parking, cleaning, and fueling school buses. The facilities are necessary to meet the public school transportation needs of the community in the northwest Las Vegas Valley. Additional detailed information pertaining to this application, plan of development, and site plan is in case file N-88117, which is located in the BLM Las Vegas Field Office at the above address.

The Clark County School District is a common applicant under the public purposes provision of the R&PP Act. The Clark County School District is a political subdivision of the State of Nevada and is therefore a qualified applicant under the R&PP Act.

The lease and/or subsequent conveyance of the public land shall be subject to valid existing rights. Subject to limitations prescribed by law and regulations, prior to patent issuance, a holder of any right-of-way within the lease area may be given the opportunity to amend the right-of-way for conversion to a new term, including perpetuity, if applicable.

The land is not required for any Federal purpose. The lease and/or subsequent conveyance is/are consistent with the BLM Las Vegas Resource Management Plan dated October 5, 1998, and would be in the public interest. The Clark County School District has not applied for more than the 640-acre limitation for public purpose uses that are not for recreation purposes in a year and has submitted a statement in compliance with the regulations at 43 CFR 2741.4(b). The lease and/or subsequent conveyance, if and when issued, will be subject to valid entry rights and the provisions of the R&PP Act and applicable regulations of the Secretary of the Interior, and will contain the following terms, conditions, and reservations to the United States:

1. A right-of-way thereon for ditches or canals constructed by the authority of the United States, Reservation in Patents Right-of-Way for Ditches or Canals Act of August 30, 1890 (43 U.S.C. 945);

2. All minerals shall be reserved to the United States, together with the right to prospect for, mine and remove such deposits from the same under applicable law and such regulations as the Secretary of the Interior may prescribe;

3. A right-of-way for roads, drainage, and municipal utilities granted to Clark County, its successors or assigns, by right-of-way N-61323, pursuant to the Federal Land Policy and Management Act of October 21, 1976, 43 U.S.C. 1761;

5. A right-of-way for roads, drainage, and municipal utilities granted to Clark County, its successors or assigns, by right-of-way N-60903, pursuant to the Federal Land Policy and Management Act of October 21, 1976, 43 U.S.C. 1761; and

6. An appropriate indemnification clause protecting the United States from claims arising out of the lessee's/patentee's use, occupancy, or operations on the leased/patented lands. It will also contain any other terms and conditions deemed necessary and appropriate by the Authorized Officer.

Upon publication of this notice in the Federal Register, the land described above will be segregated from all other forms of appropriation under the public land laws, including the general mining laws, except for lease and/or subsequent conveyance under the R&PP Act, leasing under the mineral leasing laws and disposals under the mineral material disposal laws.

Interested parties may submit written comments on the suitability of the land for a northwest public school bus transportation facility. Comments on the classification are restricted to whether the land is physically suited for the proposal, whether the use will maximize the future use or uses of the land, whether the use is consistent with local planning and zoning, or if the use is consistent with State and Federal programs.

Interested parties may also submit written comments regarding the specific use proposed in the application and plan of development, whether the BLM followed proper administrative procedures in reaching the decision to lease and/or convey under the R&PP Act, or any other factor not directly related to the suitability of the land for R&PP use.

Any adverse comments will be reviewed by the BLM Nevada State Director, who may sustain, vacate, or modify this realty action. In the absence of any adverse comments, this realty action will become the final determination of the Department of the Interior.

Before including your address, phone number, e-mail address, or other personal identifying information in your comment, you should be aware that your entire comment—including your personal identifying information—may be made publicly available at any time. While you can ask us in your comment to withhold your personal identifying information from public review, we cannot guarantee that we will be able to do so. Only written comments submitted to the Field Manager, BLM Las Vegas Field Office, will be considered properly filed. Any adverse comments will be reviewed by the BLM Nevada State Director. In the absence of any adverse comments, the decision will become effective on February 25, 2011. The lands will not be available for lease and/or subsequent conveyance until after the decision becomes effective.

Authority: 43 CFR 2741.5

Vanessa L. Hice,
Assistant Field Manager, Division of Lands.

[FR Doc. 2010-32429 Filed 12-23-10; 8:45 am]

BILLING CODE 4310-HC-P